Proclamation 9784 of September 13, 2018

National Farm Safety and Health Week, 2018

By the President of the United States of America

A Proclamation

During National Farm Safety and Health Week, we recognize the vital contributions farmers, ranchers, and foresters make to our thriving economy. My Administration is committed to ensuring that these hardworking Americans, who provide our Nation and the world with food, fiber, fuel, and other essential goods, work in safe environments. As harvest time approaches, it is important to focus on the safety and health of our Nation's farmers and their families, especially those in rural areas, and raise awareness to some of the risks that accompany farming life.

The men and women of our great Nation who work the land are among our country's greatest treasures, and we recognize that their labor is physically demanding and potentially dangerous. According to the Bureau of Labor Statistics, 417 agricultural workers died from a work-related injury in 2016, with transportation incidents as the leading cause of death. As American agriculture continues to lead the world in both innovation and production, we must maintain efforts to address the hazards of farming by following safe standard operating procedures and pursuing effective farm safety education and training.

Self-employed farm operators and their family members, as well as hired workers, manage and sustain our country's farm production operations. This healthy and productive workforce is critical to ensuring the long-term sustainability and success of family farms, ranches, and overall rural prosperity. This week, let us resolve to integrate safe practices and technologies into our agricultural production systems. Together, we can continue producing reliable food sources for a growing global market and population in a manner that keeps our farmers, ranchers, and foresters safe and healthy.

NOW, THEREFORE, I, DONALD J. TRUMP, President of the United States of America, by virtue of the authority vested in me by the Constitution and the laws of the United States, do hereby proclaim September 16 through September 22, 2018, as National Farm Safety and Health Week. I call upon the people of the United States, including America's farmers and ranchers and agriculture-related institutions, organizations, and businesses to reaffirm their dedication to farm safety and health. I also urge all Americans to honor our agricultural heritage and to express their appreciation and gratitude to our farmers, ranchers, and foresters for their important contributions and tireless service to our Nation.

IN WITNESS WHEREOF, I have hereunto set my hand this thirteenth day of September, in the year of our Lord two thousand eighteen, and of the Independence of the United States of America the two hundred and forty-third.

[FR Doc. 2018-20469

Filed 9-17-18; 11:15 am]

Billing code 3295-F8-P